DEPARTMENT OF THE INTERIOR

Bureau of Land Management

[LLMT922200-09-L13100000-FI0000-P;NDM 90111]

Notice of Proposed Reinstatement of Terminated Oil and Gas Lease NDM 90111

AGENCY: Bureau of Land Management, Interior.

ACTION: Notice.

SUMMARY: Per 30 U.S.C. 188(d), Whiting Oil and Gas Corporation, True Oil LLC, and Williams Production Rocky Mountain Company timely filed a petition for reinstatement of oil and gas lease NDM 90111, Billings County, North Dakota. The lessees paid the required rental accruing from the date of termination.

No leases were issued that affect these lands. The lessees agree to new lease terms for rentals and royalties of $10 per acre and 16⅔ percent or 4 percentages above the existing competitive royalty rate. The lessees paid the $500 administration fee for the reinstatement of the lease and $163 cost for publishing this Notice.

The lessees met the requirements for reinstatement of the lease per Sec. 31(d) and (e) of the Mineral Leasing Act of 1920 (30 U.S.C. 188). We are proposing to reinstate the lease, effective the date of termination subject to:

• The original terms and conditions of the lease;

• The increased rental of $10 per acre;

• The increased royalty of 16⅔ percent or 4 percentages above the existing competitive royalty rate; and

• The $163 cost of publishing this Notice.

FOR FURTHER INFORMATION CONTACT: Teri Bakken, Chief, Fluids Adjudication Section, BLM Montana State Office, 5001 Southgate Drive, Billings, Montana 59101-4669, 406-896-5091.

Dated: February 25, 2009.
Teri Bakken,
Chief, Fluids Adjudication Section.

[FR Doc. E9-4434 Filed 3-2-09; 8:45 am]

BILLING CODE 4310-$$-P